DEPARTMENT OF JUSTICE

Office of Justice Programs

[OJP (NIJ) Docket No. 1778]

Physical and Digital Management Software Products Market Survey

AGENCY: National Institute of Justice (NIJ), Office of Justice Programs, Justice.

ACTION: Notice of request for information.

SUMMARY: The National Institute of Justice (NIJ) is soliciting information for use in an upcoming Criminal Justice Testing and Evaluation Consortium (CJTEC) report tentatively titled, “A Landscape Report of Physical and Digital Management Software Products.” The report will identify software and web-based technologies that are commercially available to manage physical evidence and/or digital evidence, such as photos or videos. This document will assist law enforcement agencies in making informed decisions for purchasing and implementing software systems to manage and track physical evidence and/or digital evidence.

DATES: Emailed responses must be received (and mailed responses postmarked) by 5:00 p.m. Eastern Time on June 29, 2020.

ADDRESSES: Responses to this request may be submitted electronically by email to Emily Vernon at evernon.contractor@rti.org with the subject line “Physical and Digital Management Software Technologies Federal Register Response.” Responses may also be sent by mail to the following address: Criminal Justice Testing and Evaluation Consortium (CJTEC), ATTN: Emily Vernon, Physical and Digital Management Software Technologies Federal Register Response, RTI International, P.O. Box 12194, 3040 E Cornwallis Road, Research Triangle Park, NC 27709-2194.

FOR FURTHER INFORMATION CONTACT: For more information on this market survey, please contact Rebecca Shute (CJTEC) by telephone at 724-544-4129 or rshute@rti.org. For more information on the NIJ CJTEC, visit https://nij.ojp.gov/funding/awards/2018-75-cx-k003 and view the description, or contact Steven Schuetz (NIJ) by telephone at 202-514-7663 or at steven.schuetz@usdoj.gov. Please note that these are not toll-free telephone numbers.

SUPPLEMENTARY INFORMATION:

Information sought: Specific product and company information for software products that help law enforcement manage evidence in their property and evidence rooms and/or digital evidence. An independent response should be submitted for each product that respondents would like CJTEC to consider in their landscape report. NIJ encourages respondents to provide information in common file formats, such as Microsoft Word, pdf, or plain text. Each response should include contact information.

Usage: Information provided in response to this request may be published in a landscape study on physical and digital evidence management software products.

Information categories: Comments are invited with regard to the market survey, including which categories of information are appropriate for comparison, as well as promotional material (e.g., slick sheet) and print-quality photographs of the technology. At a minimum, CJTEC intends to include the following categories of information for each technology that may be of use to law enforcement officials:

1. Vendor Information

a. Full name of company

b. Contact information of technical contact for software products

c. Website URL

d. Years the company has been in business

e. Number and types of customers served (e.g., municipal, county, or state agencies)

f. Picture or photograph of software product(s)

g. Vendor logo

h. Description of product(s) (300 words or less)

2. Product Information

a. Software Offering(s):

i. Please describe your suite of software products, including but not limited to: PEMS, laboratory information management systems, digital evidence management systems, sexual assault kit tracking, etc.

ii. Is your PEMS a module of an existing system or a standalone software?

iii. Do you have a digital evidence management system (DEMS) software offering?

iv. Is your DEMS software offering a module of an existing system or a standalone system?

b. Technical Specifications of Evidence Management Offering

i. What are the key differentiators of your software compared to competitors' products?

ii. How does your software manage evidence disposition? What is the evidence disposition protocol?

iii. Does your software have a query functionality to search and categorize evidence?

iv. Does your software have a dashboard function? If so, please describe functionalities.

v. Can your software integrate with other information management systems (i.e. integration with Record Management System (RMS) or Laboratory Information Management System (LIMS))? Please list relevant systems and methods of integration (e.g., APIs)

vi. What features are customizable? (Customizability refers to changing the software programming, which may be done by the vendor or an in-house IT professional.)

vii. What features are configurable? (Configurability refers to changing fields within the setup of the system without changing the programming, which is done by the end user.)

viii. What data transfer capabilities does your software offer?

ix. Is there an upper limit to the amount of data (e.g., information about discrete pieces of evidence) that can be stored in this program? If so, please describe these parameters.

x. Setup of system

1. What is the base model and functionalities offered by the company?

2. What additional modules are available for purchase?

xi. What kind of mobile capabilities does your program have (e.g., mobile scanner or uploading capabilities).

xii. What access control measures does your product provide between users of the system?

xiii. What kind of audit trail capabilities does your product offer?

c. Technical Specifications of PEMS Offering

i. What barcode scanners are compatible with your product?

ii. What complementary hardware accessories are available with this software? Please note all available hardware accessories, and whether they come standard or at additional cost.

d. Technical Specifications of DEMS Offering

i. What types of files can be uploaded and stored on the DEMS product or module?

ii. What data and metadata are stored in the DEMS?

iii. What editing or enhancement capabilities does the software have?

iv. Are original files preserved when content is edited (e.g., cropped photos)

v. Does the product ensure authenticity of the content?

vi. Are there photo comparison capabilities offered by the software?

vii. Can users download content to physical hard copies (e.g., external drives)?

viii. Does your software offer digital signature capabilities?

e. Operating Information

i. Operating system required for use

ii. Type of application (e.g., web-based or desktop application)

iii. Does your software have a cloud-based application?

iv. Servers and other IT requirements

v. Technical support offered

vi. Training offered

vii. Frequency of software updates

viii. Last known software release date

ix. Other systems required for use (e.g., hardware requirements or supporting software packages)

f. Financial Information (check all that apply for your software and provide estimate costs if applicable. Please indicate what the cost model—e.g., per user, bulk pricing). Please note that we will not share specific pricing, but allow users to roughly compare across pricing ranges.

i. | ☐ Base software cost (___ USD)
ii. | ☐ Up-front license cost (___ USD)
iii. | ☐ Per-user license cost (___ USD)
iv. | ☐ Additional module costs (___ USD)
v. | ☐ Maintenance costs (___USD)
vi. | ☐ IT/Troubleshooting costs (___USD)
| ☐ Training costs (___USD)

3. Use Cases

a. Approximate number of products sold to law enforcement (if available)

b. Names and contact information (phone and email) for end users who have implemented the product in casework (if available)

David B. Muhlhausen,
Director, National Institute of Justice.

[FR Doc. 2020-10416 Filed 5-14-20; 8:45 am]

BILLING CODE 4410-20-P